TRADE AND DEVELOPMENT AGENCY

Notice of Request for Extension of a Currently Approved Information Collection

AGENCY: United States Trade and Development Agency.

ACTION: Request for comments.

SUMMARY: In accordance with the Paperwork Reduction Act of 1995 (44 U.S.C. Chapter 35), the U.S. Trade and Development Agency has submitted a request to the Office of Management and Budget (OMB) to review and approve an extension for a currently approved information collection for Evaluation of USTDA Performance. USTDA published its first Federal Register Notice on this information request extension on July 21, 2014, at 79 FR 42392, at which time a 60-day comment period was announced. No comments were received in response to this notice at the end of the comment period.

Comments are again being solicited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

DATES: Comments must be received by OMB by November 10, 2014 to be assured of consideration.

ADDRESSES: Copies of the subject form and the request for extension prepared for submission to OMB may be obtained from the Agency Submitting Officer. Comments should be addressed as follows: Desk Officer for USTDA, Office of Information and Regulatory Affairs, Office of Management and Budget (OMB), Washington, DC 20503.

FOR ADDITIONAL INFORMATION CONTACT: Contact Carolyn Hum, Administrative Officer, Attn: PRA, U.S. Trade and Development Agency, 1000 Wilson Blvd., Suite 1600, Arlington, VA 22209-3901; Tel.: (703) 875-4357, Fax: (703) 875-4009; Email: chum@ustda.gov.

SUPPLEMENTARY INFORMATION:

Summary Collection Under Review

Type of Request: Extension of a currently approved information collection.

Expiration Date of Previous Approval: 12/31/2014.

Title: Evaluation of USTDA Performance.

Form Number: USTDA 1000E-2011a.

Frequency of Use: annually for duration of project.

Type of Respondents: Business or other for profit; Not-for-profit institutions; Farms; Federal Government.

Estimated Number of Responses: 1,840 to 2,200 per year.

Estimated Total Annual Burden on Respondents: 613 to 733 hours per year.

Federal Cost: $369,699.

Authority for Information Collection: Government Performance and Results Act of 1993 103 Pub. L. 62; 107 Stat. 285.

Abstract: USTDA and contractors will collect information from various stakeholders on USTDA-funded activities regarding development impact and/or commercial objectives as well as evaluate success regarding GPRA objectives.

Dated: October 6, 2014.
Carolyn Hum,
Administrative Officer.

[FR Doc. 2014-24124 Filed 10-8-14; 8:45 am]

BILLING CODE 8040-01-P